DEPARTMENT OF LABOR

Employment and Training Administration

[TA-W-59,252]

True North Foods, US, Inc.; Stratford, CT; Notice of Termination of Investigation

Pursuant to Section 221 of the Trade Act of 1974, as amended, an investigation was initiated on April 20, 2006 in response to a petition filed by a company official on behalf of workers at True North Foods, US, Inc., Stratford, Connecticut.

The petitioner has requested that the petition be withdrawn. Consequently, the investigation has been terminated.

Signed at Washington, DC this 5th day of May, 2006.
Elliott S. Kushner,
Certifying Officer, Division of Trade Adjustment Assistance.

[FR Doc. E6-7516 Filed 5-16-06; 8:45 am]

BILLING CODE 4510-30-P